DEPARTMENT OF THE TREASURY

Internal Revenue Service

Open Meeting of the Taxpayer Advocacy Panel Volunteer Income Tax Assistance (VITA) Issue Committee

AGENCY: Internal Revenue Service (IRS), Treasury.

ACTION: Notice.

SUMMARY: An open meeting of the Taxpayer Advocacy Panel VITA Issue Committee will be conducted. The Taxpayer Advocacy Panel is soliciting public comment, ideas, and suggestions on improving customer service at the Internal Revenue Service.

DATES: The meeting will be held Tuesday, October 3, 2006, at 3 p.m. Eastern Time.

FOR FURTHER INFORMATION CONTACT: Barbara Toy at 1-888-912-1227, or (414) 231-2360.

SUPPLEMENTARY INFORMATION: Notice is hereby given pursuant to Section 10(a)(2) of the Federal Advisory Committee Act, 5 U.S.C. App. (1988) that a meeting of the Taxpayer Advocacy Panel VITA Issue Committee will be held Tuesday, October 3, 2006, at 3 p.m., Eastern Time via a telephone conference call. You can submit written comments to the panel by faxing to (414) 231-2363, or by mail to Taxpayer Advocacy Panel, Stop 1006MIL, 211 West Wisconsin Avenue, P.O Box 3205, Milwaukee, WI 53203-2221, or you can contact us at http://www.improveirs.org. Public comments will also be welcome during the meeting. Please contact Barbara Toy at 1-888-912-1227 or (414) 231-2360 for additional information.

The agenda will include the following: Various VITA Issues.

Dated: September 6, 2006.
John Fay,
Acting Director, Taxpayer Advocacy Panel.

[FR Doc. E6-15300 Filed 9-14-06; 8:45 am]

BILLING CODE 4830-01-P